NUCLEAR REGULATORY COMMISSION

Notice of Availability of Environmental Assessment and Final Finding of No Significant Impact for the Issuance of Grants to Eligible Institutions of Higher Education in the United States

AGENCY: Nuclear Regulatory Commission.

ACTION: Issuance of Environmental Assessment and Finding of No Significant Impact for the issuance of grants to institutions of higher education in the United States, for scholarships, fellowships, faculty and curricula development in nuclear safety, nuclear security, nuclear environmental protection, and other fields that the Commission determines to be critical to the NRC's regulatory mission.

FOR FURTHER INFORMATION CONTACT: James Morris, Deputy Associate Director, Professional Development Center, Office of Human Resources, Mail Stop W5-A6, Washington, DC 20555; Telephone number: 301-492-2303; FAX number: 301-492-2243; or by e-mail: james.morris@nrc.gov.

SUPPLEMENTARY INFORMATION:

I. Introduction

Section 243 of the Atomic Energy Act of 1954, as amended (AEA), authorizes the U.S. Nuclear Regulatory Commission (NRC or Commission) to create a scholarship and fellowship program to fund scholarships, fellowships, and stipends for the study of science, engineering, or another field of study that the NRC determines is a critical skill area related to its regulatory mission, to support faculty and curricular development in such fields, and to support other domestic educational, technical assistance, or training programs (including those of trade schools) in such fields.

Section 31.b.(2) of the AEA authorizes the U.S. Nuclear Regulatory Commission (NRC or Commission) to provide grants, loans, cooperative agreements, contracts, and equipment to institutions of higher education to support courses, studies, training, curricula, and disciplines pertaining to nuclear safety, security, or environmental protection, or any other field that the Commission determines to be critical to the regulatory mission of the Commission.

The NRC is proposing to award grants, using funds available in fiscal year 2008, to eligible institutions of higher education in the United States as authorized by sections 31.b.(2) and 243 of the AEA. The NRC has prepared an environmental assessment (EA) as its evaluation of this proposed action in accordance with the requirements in 10 CFR Part 51. Based on the EA, the NRC has concluded that a Finding of No Significant Impact is appropriate to the proposed action.

II. Environmental Assessment

Identification of Proposed Action

The NRC is proposing to fund five competitive grant programs. The goal of the five grant programs is to promote and strengthen teaching programs in nuclear safety, nuclear security, nuclear environmental protection, and other fields that the Commission determines to be critical to the NRC's regulatory mission, by through the award of grants for scholarships and fellowships and to enhance curricula and increase faculty teaching competencies. Under the first program, the U.S. Nuclear Regulatory Commission Nuclear Education Grant Program, Fiscal Year 2008 (funding number HR-FN1207-EDU2), the NRC would make grant awards up to $4.7 million dollars in fiscal year 2008, to higher education institutions, accredited in the United States.

The primary purpose of the U.S. Nuclear Regulatory Commission Nuclear Education Grant Program is to support the educational infrastructure necessary for the nation to safely move forward with its nuclear energy initiatives. The goal of the program is to promote and strengthen teaching programs in nuclear safety, nuclear security, nuclear environmental protection, and other fields that the Commission determines to be critical to the NRC's regulatory mission at higher education institutions, by enhancing curricula and increasing faculty teaching competencies. Projects awarded grants under the proposed program may develop, revise, implement, or improve teaching competencies, subject matter expertise, and skills in serving students in significant nuclear programs. Applicants would be expected to identify innovative instructional approaches or techniques to enhance student learning, including distance educational and experiential learning. Curriculum development projects may create teaching resources such as course material, including teaching guides on specific nuclear topics. Such materials may use print or electronic formats, but the preparation of traditional textbooks would be ineligible for funding. Under the proposed grant program, projects must have an academic focus within the areas of nuclear safety, nuclear security, nuclear environmental protection, or the other fields the Commission has determined to be critical to the NRC's regulatory mission.

Under the remaining four grant programs, the U.S. Nuclear Regulatory Commission Nuclear Scholarship/Fellowship Program Announcement of Opportunity, Fiscal Year 2008 (not yet announced); the U.S. Nuclear Regulatory Commission Nuclear Education Program Scholarship and Fellowship Announcement of Opportunity, Fiscal Year 2008 (funding number HR-FN208-NEDO1); the U.S. Nuclear Regulatory Commission Nuclear Education Program Faculty Development Grants Announcement of Opportunity, Fiscal Year 2008 (funding number HR-FN208-NEDO2); and the U.S. Nuclear Regulatory Commission Nuclear Education Program Trade School Scholarship Announcement of Opportunity, Fiscal Year 2008 (funding number HR-FN208-NEDO3); the NRC would make grant awards up to $15.4 million dollars in fiscal year 2008 for undergraduate scholarships, graduate fellowships, trade school scholarships, and faculty development grants to support education in nuclear science and engineering, for the purpose of developing a workforce capable of supporting the design, construction, operation, and regulation of nuclear facilities and the safe handling of nuclear materials. Participation in the awards program would require recipients to serve in nuclear-related employment for each full or partial year of academic support. The employment may be with NRC, other Federal agencies, State agencies, Department of Energy laboratories, nuclear-related industry, or academia in the recipients' sponsored fields of study.

A more detailed description of the fiscal year 2008 NRC grant programs is available at http://www.grants.gov (find grant opportunities/browse by agency/U.S. Nuclear Regulatory Commission).

The Need for the Proposed Action

The proposed action implements the congressional intent of sections 31.b.(2) and 243 of the AEA, namely, to foster the study of science, engineering, or another field of study that the NRC determines is in a critical skill area related to its regulatory mission.

Environmental Impacts of the Proposed Action

The proposed action is specifically geared toward the development of teaching and educational programs in the nuclear field. As the proposed action is administrative in nature, it will have no significant effect on the quality of the human environment. The proposed action is not expected to result in: increased radiation doses to nuclear industry workers or members of the public; degradation of water quality or of the water supply; endangered or threatened species habitat destruction; increased effluents or changes in effluent pathways; increased noise; damage or reduced access to cultural resources; changes to local or regional socioeconomic conditions; increased traffic or other transportation effects; or increased competition for available resources. Moreover, the NRC will not issue awards to fund programs that include or involve activities directly affecting the environment, such as the construction of facilities; a major disturbance of the local environment brought about by blasting, drilling, excavating or other means; large-scale acquisitions of computer equipment; field work affecting the local environment (except field work which only involves noninvasive or non-harmful techniques such as taking water or soil samples or collecting non-protected species of flora and fauna); and the testing and release of radioactive material.

Accordingly, the NRC finds that the proposed action will not have a significant effect on the quality of the human environment.

Environmental Impacts of the Alternatives to the Proposed Action

Due to the administrative nature of the proposed action, its environmental impacts are small or nonexistent. Therefore, the only alternative NRC considered is the “no-action” alternative, namely, not issuing any grant awards. The no-action alternative runs counter to the congressional intent expressed in section 31.b.(2) of the AEA, which authorizes the NRC to provide grants to support courses, studies, training, curricula, and disciplines pertaining to nuclear safety, security, or environmental protection, and in section 243 of the AEA, which authorizes the NRC to issue scholarships and fellowships to higher education institutions for the purpose of enabling students to pursue education in science, engineering, or another field of study that the NRC determines is in a critical skill area related to its regulatory mission.

The “no-action” alternative would result in no change in current environmental impacts. The environmental impacts of the proposed action and the alternative action are similar.

Agencies and Persons Consulted

The NRC has determined that the proposed action is administrative in nature and will not affect listed species or critical habitat. Therefore, no consultation is required under Section 7 of the Endangered Species Act. The NRC has also determined that the proposed action is not the type of activity that has the potential to cause effects on historic properties. Therefore, no consultation is required under Section 106 of the National Historic Preservation Act.

III. Final Finding of No Significant Impact

On the basis of this environmental assessment, the NRC concludes that the proposed action will not have a significant effect on the quality of the human environment. Accordingly, the NRC has determined not to prepare an environmental impact statement for the proposed action.

IV. Further Information

For further information regarding the NRC Education Grants program, please visit the NRC Web site at http://www.nrc.gov/about-nrc/grants.html. The public may access this document by using ADAMS on the NRC public Web site by using the following accession number ML081570477.

Dated at Rockville, Maryland, this 6th day of June, 2008.
For the Nuclear Regulatory Commission.
James F. McDermott,
Director, Office of Human Resources.

[FR Doc. E8-13461 Filed 6-13-08; 8:45 am]

BILLING CODE 7590-01-P